Title 3—

The President

Proclamation 8343 of January 20, 2009

National Day of Renewal And Reconciliation, 2009

By the President of the United States of America

A Proclamation

As I take the sacred oath of the highest office in the land, I am humbled by the responsibility placed upon my shoulders, renewed by the courage and decency of the American people, and fortified by my faith in an awesome God.

We are in the midst of a season of trial. Our Nation is being tested, and our people know great uncertainty. Yet the story of America is one of renewal in the face of adversity, reconciliation in a time of discord, and we know that there is a purpose for everything under heaven.

On this Inauguration Day, we are reminded that we are heirs to over two centuries of American democracy, and that this legacy is not simply a birthright—it is a glorious burden. Now it falls to us to come together as a people to carry it forward once more.

So in the words of President Abraham Lincoln, let us remember that: “The mystic chords of memory, stretching from every battlefield and patriot grave to every living heart and hearthstone all over this broad land, will yet swell the chorus of the Union, when again touched, as surely they will be, by the better angels of our nature.”

NOW, THEREFORE, I, BARACK OBAMA, President of the United States of America, by the authority vested in me by the Constitution and laws of the United States, do hereby proclaim January 20, 2009, a National Day of Renewal and Reconciliation, and call upon all of our citizens to serve one another and the common purpose of remaking this Nation for our new century.

IN WITNESS WHEREOF, I have hereunto set my hand this twentieth day of January, in the year of our Lord two thousand nine, and of the Independence of the United States of America the two hundred and thirty-third.

[FR Doc. E9-1677

Filed 1-22-09; 11:15 am]

Billing code 3195-W9-P